GENERAL SERVICES ADMINISTRATION

[Notice-MA-2018-07; Docket No. 2018-0002; Sequence No.16]

Maximum Per Diem Reimbursement Rates for the Continental United States (CONUS)

AGENCY: Office of Government-wide Policy (OGP), General Services Administration (GSA).

ACTION: Notice of GSA Per Diem Bulletin FTR 19-01, Fiscal Year (FY) 2019 Continental United States (CONUS) per diem reimbursement rates.

SUMMARY: The General Services Administration's (GSA) Fiscal Year (FY) 2019 per diem reimbursement rates review has resulted in lodging and meal allowance changes for certain locations within CONUS to provide for reimbursement of Federal employees' subsistence expenses while on official travel.

DATES: Applicability Date: This notice applies to travel performed on or after October 1, 2018, through September 30, 2019.

FOR FURTHER INFORMATION CONTACT: For clarification of content, contact Ms. Jill Denning, Program Analyst, Office of Government-wide Policy, Office of Asset and Transportation Management, at 202-208-7642, or by email at travelpolicy@gsa.gov. Please cite Notice of GSA Per Diem Bulletin FTR 19-01.

SUPPLEMENTARY INFORMATION:

Background: The CONUS per diem reimbursement rates prescribed in Bulletin 19-01 may be found at www.gsa.gov/perdiem. GSA bases the maximum lodging allowance rates on the average daily rate that the lodging industry reports to an independent organization. If a maximum lodging allowance rate and/or a meals and incidental expenses (M&IE) per diem reimbursement rate is insufficient to meet necessary expenses in any given location, Federal executive agencies can request that GSA review that location. Please review questions six and seven of GSA's per diem Frequently Asked Questions page at www.gsa.gov/perdiem for more information on the special review process. In addition, the Federal Travel Regulation (FTR) allows for actual expense reimbursement as provided in §§ 301-11.300 through 301-11.306.

For FY 2019, one new non-standard area (NSA) location was added for Cobb County, Georgia. Hancock and Knox Counties in Maine were combined into one NSA. The standard CONUS lodging allowance rate will increase from $93 to $94. The M&IE reimbursement rate tiers were revised for FY 2019; they were last revised in FY2016. The revised standard CONUS M&IE rate is now $55, and the M&IE NSA tiers are revised from $54-$74 to $56-$76.

GSA issues and publishes the CONUS per diem rates, formerly published in Appendix A to 41 CFR Chapter 301, solely on the internet at www.gsa.gov/perdiem. GSA also has removed and now solely publishes the M&IE deduction table from Appendix B to 41 CFR Chapter 301, which is used when employees are required to deduct meals from their M&IE reimbursement pursuant to FTR § 301-11.18, at www.gsa.gov/mie. This process, implemented in 2003, for per diem reimbursement rates and in 2015 (internet publication) and 2018 (removal from the FTR) for the M&IE deduction table, ensures more timely changes in per diem reimbursement rates established by GSA for Federal employees on official travel within CONUS.

Notices published periodically in the Federal Register now constitute the only notification of revisions in CONUS per diem reimbursement rates to agencies other than the changes posted on the GSA website.

Dated: August 14, 2018.
Jessica Salmoiraghi,
Associate Administrator, Office of Government-wide Policy.

[FR Doc. 2018-18040 Filed 8-21-18; 8:45 am]

BILLING CODE 6820-14-P